DEPARTMENT OF COMMERCE

Census Bureau

Survey of Industrial Research and Development

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before May 14, 2004.

ADDRESSES: Direct all written comments to Diana Hynek, Departmental Paperwork Clearance Officer, Department of Commerce, Room 6625, 14th and Constitution Avenue, NW., Washington, DC 20230 (or via the Internet at dhynek@doc.gov).

FOR FURTHER INFORMATION CONTACT: Requests for additional information or copies of the information collection instrument(s) and instructions should be directed to Julius Smith, Jr., Census Bureau, Room 2135, Building 4, Washington, DC 20233-6900, 301-763-4683 (or via the Internet at julius.smith.jr@census.gov) and Raymond M. Wolfe, National Science Foundation, 4201 Wilson Boulevard, Suite 965, Arlington, VA 22230, 703-292-7789 (or via the Internet at rwolfe@nsf.gov).

SUPPLEMENTARY INFORMATION:

I. Abstract

The Survey of Industrial Research and Development (R&D), has been conducted annually since 1953. The information collection involves the estimation of the expenditures on research and development performed within the United States by industrial firms. Historically, the survey has been sponsored by the National Science Foundation (NSF), with the Census Bureau acting as the collection agent. Under a joint project agreement between NSF and the Census Bureau, the Census Bureau plans to assume sponsorship and submit the R&D Survey for OMB review as a new collection.

Industry accounts for over 70 percent of total U.S. R&D each year and since its inception, the survey has provided continuity of statistics on R&D expenditures by major industry groups and by source of funds. The survey is the industrial component of the NSF statistical program that seeks “* * * to provide a central clearinghouse for the collection, interpretation, and analysis of data on scientific and engineering resources and to provide a source of information for policy formulation by other agencies of the Federal government,” as mandated in the National Science Foundation Act of 1950. Statistics from the survey will be released by the Census Bureau and published in NSF's annual publication series Research and Development in Industry. The proposed collection will continue the survey for three years.

II. Method of Collection

The survey will be mailed to a statistical sample of approximately 31,100 companies to collect information on the amount and sources of funds for and character of R&D performed and contracted out by industrial firms, and information on sales and employment of the firms themselves.

III. Data

OMB Number: 3145-0027 (NSF).

Form Number: RD-1 (long form); RD-1A (abbreviated form).

Type of Review: Regular review.

Affected Public: Business or other for-profit.

Estimated Number of Respondents | RD-1 | 2,600
| RD-1A | 28,500
Total |  | 31,100

Estimated Time Per Response: RD-1—18 hours; RD-1A—1 hour.

Estimated Total Annual Burden Hours: 75,300.

Estimated Total Annual Cost: The estimated cost to the respondents is $1,235,673.

Respondent's Obligation: Mandatory.

Legal Authority: Title 13, United States Code, Sections 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 9, 2004.
Madeleine Clayton,
Management Analyst, Office of the Chief Information Officer.

[FR Doc. 04-5734 Filed 3-12-04; 8:45 am]

BILLING CODE 3510-07-P